DEPARTMENT OF EDUCATION

National Institute on Disability and Rehabilitation Research; Notice of Funding Priorities; Correction

AGENCY: Department of Education.

ACTION: Notice of Final Funding Priorities for Fiscal Years 2000-2001 for New Awards for the Alternative Financing Program, and the Alternative Financing Technical Assistance Program, both authorized under Title III of the Assistive Technology Act of 1998; correction

SUMMARY: On June 5, 2000 a Notice of Final Funding Priorities for Fiscal Years 2000-2001 for New Awards for the Alternative Financing Program, and the Alternative Financing Technical Assistance Program, both authorized under Title III of the Assistive Technology Act of 1998 was published in the Federal Register (65 FR 35768)(FR Doc. 00-13945). This document corrects paragraph (h) of Priority 1: Alternative Financing Program, on page 35770, first column.

Correction

Paragraph (h) is corrected to read as follows:

(h) The State must provide an assurance that the State will supplement and not supplant other Federal, State, and local public funds expended to provide alternative financing mechanisms including any currently operating AFP in the State. The State must use new State-level funds to match the Federal share. The State may not use existing spending, such as Title I ATAct funds, that are used to support an existing AFP program to match the Federal grant.

DATES: These priorities take effect on August 4, 2000.

FOR FURTHER INFORMATION CONTACT: Donna Nangle, U.S. Department of Education, 400 Maryland Avenue, SW., room 3414, Switzer Building, Washington, D.C. (20202-2645. Telephone: (202) 205-5880. Individuals who use a telecommunications device for the deaf (TDD) may call the TDD number at (202) 205-4475. Internet: Donna_Nangle@ed.gov.

Individuals with disabilities may obtain this document in an alternate format (e.g., Braille, large print, audiotape, or computer diskette) on request to the contact person listed in the preceding paragraph.

SUPPLEMENTARY INFORMATION:

Electronic Access to This Document

You may review this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, D.C., area at (202) 512-1530.

Note: The official version of this document is the document published in the Federal Register. Free Internet access to the official edition of the Federal Register and the Code of Federal Regulations is available on GPO access at: http://www.access.gpo.gov/nara/index.html.

(Catalog of Federal Domestic Assistance Number 84.224C, Assistive Technology Act Alternative Loan Financing, Title III)
Program Authority: 29 U.S.C. 3051-3058.
Dated: June 14, 2000.
Judith E. Heumann,
Assistant Secretary for Special Education and Rehabilitative Services.

[FR Doc. 00-15375 Filed 6-16-00; 8:45 am]

BILLING CODE 4000-01-P